DEPARTMENT OF DEFENSE

Office of the Secretary

[Docket ID DOD-2012-OS-0050]

Privacy Act of 1974; System of Records

AGENCY: Defense Logistics Agency, DoD.

ACTION: Notice to alter a system of records.

SUMMARY: The Defense Logistics Agency proposes to alter a system of records in its inventory of record systems subject to the Privacy Act of 1974 (5 U.S.C. 552a), as amended.

DATES: This proposed action will be effective on June 4, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA FOIA/Privacy Act Office, Headquarters, Defense Logistics Agency, ATTN: DGA, 8725 John J. Kingman Road, Suite 1644, Fort Belvoir, VA 22060-6221, or by phone at (703) 767-5045.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on April 27, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 30, 2012.
Aaron Siegel,
Alternate OSD Federal Register Liaison Officer, Department of Defense.

S500.60

System name:

Defense Logistics Agency Hotline Program Records (February 3, 2010, 75 FR 5579).

Changes:

* * * * *

System name:

Add “Enterprise” after “Agency”.

System location:

Within entry, replace “Director, DLA Accountability Office (DA)” with “Inspector General, DLA Office of the Inspector General”.

Categories of individuals covered by the system:

Delete entry and replace with “Covered individuals include those who use the DLA Enterprise Hotline Program to report suspected fraud, waste, abuse, or mismanagement. Also included are other individuals identified during the inquiry, such as persons interviewed, complainants, witnesses, subjects, and contractor employees.”

* * * * *

Authority for maintenance of the system:

Add to entry “DLA Instruction 5104, DLA Enterprise Hotline Program.”

* * * * *

Retrievability:

Delete entry and replace with “Records are retrieved by the name of complainant, witness, contractor employee, and/or subjects; hotline topic; inquiry number; National Stock Number; and/or contract number.”

* * * * *

System manager(s) and address:

Within entry, replace “Director, DLA Accountability Office” with “Inspector General, DLA Office of the Inspector General”.

Notification procedure:

Delete first paragraph and replace with “Individuals seeking to determine whether information about themselves is contained in this system should address written inquiries to the DLA FOIA/Privacy Act Office, Headquarters, Defense Logistics Agency, Attn: DGA, 8725 John J. Kingman Road, Suite 1644, Fort Belvoir, VA 22060-6221.”

Record access procedures:

Delete first paragraph and replace with “Individuals seeking access to information about themselves contained in this system should address written inquiries to the DLA FOIA/Privacy Act Office, Headquarters, Defense Logistics Agency, Attn: DGA, 8725 John J. Kingman Road, Suite 1644, Fort Belvoir, VA 22060-6221.”

Contesting record procedures:

Delete entry and replace with “The DLA rules for accessing records, for contesting contents, and appealing initial Agency determinations are contained in 32 CFR part 323 or may be obtained from the DLA FOIA/Privacy Act Office, Headquarters, Defense Logistics Agency, Attn: DGA, 8725 John J. Kingman Road, Suite 1644, Fort Belvoir, VA 22060-6221.”

Record source categories:

Add “the DLA Enterprise Hotline” to entry.

* * * * *

[FR Doc. 2012-10666 Filed 5-2-12; 8:45 am]

BILLING CODE 5001-06-P